DEPARTMENT OF AGRICULTURE

Natural Resources Conservation Service

Notice of Availability for the Coal Creek Flood Control and Parkway Final Environmental Impact Statement

AGENCY: Natural Resources Conservation Service, USDA.

ACTION: Notice of Availability.

SUMMARY: The Record of Decision (ROD) for the Coal Creek Flood Control and Parkway Final Environmental Impact Statement is now available to the public. On September 1, 2006, the Natural Resources Conservation Service (NRCS) published a Final Environmental Impact Statement consistent with the National Environmental Policy Act of 1969, as amended, to disclose potential effects to the human environment resulting from proposed flood control improvements to Coal Creek in Cedar City, Utah. A notice of availability for the ROD was previously published in the Federal Register on October 3, 2006. Availability was delayed due to additional information about the proximity of Utah prairie dogs, a threatened species under the Endangered Species Act. The NRCS is now completing formal consultation with the U.S. Fish and Wildlife Service (FWS). No construction will begin until the NRCS has received a biological opinion from the FWS. The ROD authorizes implementation of Alternative C (Replace Main Street diversion/drop structure) in conjunction with the North Field Canal Option and Parkway Option C1.

DATES: Effective Date: November 13, 2006.

FOR FURTHER INFORMATION CONTACT: Marnie Wilson, Coal Creek EIS, USDA—NRCS, Wallace F. Bennett Federal Building, 125 South State Street, Room 4402, Salt Lake City, UT 84138-1100. Project information is also available on the Internet at: http://www.ut.nrcs.usda.gov under Public Notices.

SUPPLEMENTARY INFORMATION: Copies of the Final EIS and ROD are available by request from Marnie Wilson at the address listed above. Basic data developed during the environmental evaluation are on file and may be reviewed by contacting Sylvia Gillen, Utah State Conservationist.

Signed in Salt Lake City, Utah on November 9, 2006.
Sylvia A. Gillen,
State Conservationist.

[FR Doc. E6-19959 Filed 11-24-06; 8:45 am]

BILLING CODE 3410-16-P